DEPARTMENT OF THE INTERIOR

Fish and Wildlife Service

[FWS-R2-ES-2021-0114; FXES11130200000-212-FF02ENEH00]

Endangered and Threatened Wildlife and Plants; Draft Recovery Plan for the Diamond Y Invertebrates

AGENCY: Fish and Wildlife Service, Interior.

ACTION: Notice of availability; request for comment.

SUMMARY: We, the U.S. Fish and Wildlife Service, announce the availability of our draft recovery plan for the Diamond Y invertebrates, including Diamond tryonia (Pseudotryonia adamantina), Gonzales tryonia (Tryonia circumstriata), and Pecos amphipod (Gammarus pecos). These endangered aquatic invertebrates occur in the Diamond Y Spring system of the Chihuahuan Desert of western Texas. We request review and comment on this draft recovery plan from local, State, and Federal agencies; nongovernmental organizations; and the public.

DATES: We must receive any comments on or before January 3, 2022. Comments submitted online at http://www.regulations.gov (see ADDRESSES) must be received by 11:59 p.m. Eastern Time on January 3, 2022.

ADDRESSES: Obtaining Documents: You may obtain a copy of the draft recovery plan, recovery implementation strategy, and species status assessment for review at http://www.regulations.gov in Docket No. FWS-R2-ES-2021-0114.

Submitting Comments: Submit your comments in writing by one of the following methods:

○ Internet: http://www.regulations.gov. Search for and submit comments on Docket No. FWS-R2-ES-2021-0114.

○ U.S. mail: Public Comments Processing, Attn: Docket No. FWS-R2-ES-2021-0114, U.S. Fish and Wildlife Service Headquarters, MS: PRB/3W, 5275 Leesburg Pike, Falls Church, VA 22041-3803.

For additional information about submitting comments, see Request for Public Comments and Public Availability of Comments under SUPPLEMENTARY INFORMATION.

FOR FURTHER INFORMATION CONTACT: Adam Zerrenner, Field Supervisor, by phone at 512-490-0057, or by email at adam_zerrenner@fws.gov. Individuals who are hearing or speech impaired may call the Federal Relay Service at 1-800-877-8339 for TTY assistance.

SUPPLEMENTARY INFORMATION: We, the U.S. Fish and Wildlife Service (USFWS), announce the availability of our draft recovery plan for the Diamond Y invertebrates, including Diamond tryonia (Pseudotryonia adamantina), Gonzales tryonia (Tryonia circumstriata), and Pecos amphipod (Gammarus pecos), which we listed as endangered in 2013 (see 78 FR 41228; July 9, 2013) under the Endangered Species Act of 1973, as amended (ESA; 16 U.S.C. 1531 et seq.). These aquatic invertebrates are restricted to the small, isolated Diamond Y Spring system and ciénega (desert wetland) in the Chihuahuan Desert of Pecos County, Texas. The draft recovery plan includes specific goals, objectives, and criteria that may help to inform our consideration of whether to reclassify the species as threatened (i.e., “downlist”) or remove the species from the Federal List of Endangered and Threatened Wildlife (i.e., “delist”). We request review of and comment on the draft recovery plan from local, State, and Federal agencies; nongovernmental organizations; and the public.

Recovery Planning and Implementation

Section 4(f) of the ESA requires the development of recovery plans for listed species, unless such a plan would not promote the conservation of a particular species. Also pursuant to section 4(f) of the ESA, a recovery plan must, to the maximum extent practicable, include:

(1) A description of site-specific management actions as may be necessary to achieve the plan's goals for the conservation and survival of the species;

(2) Objective, measurable criteria that, when met, would support a determination under the ESA's section 4(a)(1) that the species should be delisted; and

(3) Estimates of the time and costs required to carry out those measures needed to achieve the plan's goal and to achieve intermediate steps toward that goal.

In 2016, the USFWS revised its approach to recovery planning, and is now using a process termed recovery planning and implementation (RPI) (see https://www.fws.gov/endangered/esa-library/pdf/RPI.pdf). The RPI approach is intended to reduce the time needed to develop and implement recovery plans, increase recovery plan relevance over a longer timeframe, and add flexibility to recovery plans so they can be adjusted to new information or circumstances. Under RPI, a recovery plan addresses the statutorily required elements under section 4(f) of the ESA, including site-specific management actions, objective and measurable recovery criteria, and the estimated time and cost to recovery. The RPI recovery plan is supported by two supplementary documents: A species status assessment (SSA), which describes the best available scientific information related to the biological needs of the species and assessment of threats; and a recovery implementation strategy, which details the particular near-term activities needed to implement the recovery actions identified in the recovery plan. Under this approach, we can more nimbly incorporate new information on species biology or details of recovery implementation by updating these supplementary documents without concurrent revision of the entire recovery plan, unless changes to statutorily required elements are necessary.

Species Background

On July 9, 2013, we published a final rule (78 FR 41228) to list the Diamond tryonia, Gonzales tryonia, and Pecos amphipod as endangered species. Also on July 9, 2013, we published a final rule (78 FR 40970) designating critical habitat for the three species. A single critical habitat unit, encompassing 178.6 hectares (441.4 acres), is designated as critical habitat for these species at the Diamond Y Spring system.

These species are only known to inhabit the Diamond Y Spring system, a small complex of isolated desert springs, seeps, and associated ciénegas (desert wetlands), in the Chihuahuan Basin and Playas ecoregion of western Texas. The spring system is located approximately 12 kilometers (8 miles) north of the City of Fort Stockton in Pecos County. The Nature Conservancy owns and manages the Diamond Y Spring Preserve, which encompasses the spring and ciénega system.

The primary ongoing threats to the Diamond Y invertebrates include habitat loss and degradation as a result of decreasing groundwater quantity and quality and habitat modification; predation; the inadequacy of existing regulatory mechanisms; competition; and climate change.

Recovery Criteria

The draft recovery criteria are summarized below. For a complete description of the rationale behind the criteria, the recovery strategy, management actions, and estimated time and costs associated with recovery, refer to the draft recovery plan for the Diamond Y invertebrates (see ADDRESSES, above, for document availability).

The ultimate recovery goal is to delist the Diamond Y invertebrates by ensuring the long-term viability of these species in the wild. In the recovery plan, we define the following criteria for delisting (i.e., removal of the species from the List of Endangered and Threatened Wildlife):

• Criterion 1: Maintain the presence of each species in the occupied management unit as of the start of this plan, with a stable or increasing average trend in density over a period of 20 consecutive years.

• Criterion 2: Develop, implement, and fulfill a water management plan or equivalent conservation agreement, supported by the local irrigation district and other partners, that ensures adequate surface and groundwater levels to (a) sustain delisting criteria measured by Criterion 1, above, and (b) ensure that the flows in the Diamond Y Spring system are stable and perennial.

• Criterion 3: Commitments (e.g., conservation agreements) are in place to maintain sufficient water quality protections and will be implemented in perpetuity. These commitments should specifically address the Diamond Y invertebrates and reduce the risk of a catastrophic spill occurring within a drainage or recharge area occupied by any of the three invertebrate species.

Request for Public Comments

Section 4(f) of the ESA requires us to provide public notice and an opportunity for public review and comment during recovery plan development. It is also our policy to request peer review of recovery plans (59 FR 34270; July 1, 1994). In an appendix to the approved final recovery plan, we will summarize and respond to the issues raised during public comment and peer review. Substantive comments may or may not result in changes to the recovery plan. Comments regarding recovery plan implementation will be forwarded as appropriate to Federal or other entities so that they can be taken into account during the course of implementation of recovery actions.

We invite written comments on this draft recovery plan. In particular, we are interested in additional information regarding the current threats to the species, ongoing beneficial management efforts, and the costs associated with implementing the recommended recovery actions. The species status assessment is available as a supporting document for the draft recovery plan, but we are not seeking comments on the status assessment. We will consider all comments we receive by the date specified in DATES, above, prior to final approval of the plan.

Public Availability of Comments

All comments we receive, including names and addresses, will become part of the administrative record and will be available to the public. Before including your address, phone number, email address, or other personal identifying information in your comment, you should be aware that your entire comment—including your personal identifying information—will be publicly available. While you may request in your comment that we withhold your personal identifying information from public review, we cannot guarantee that we will be able to do so.

Authority

We developed our draft recovery plan and publish this notice under the authority of section 4(f) of the Endangered Species Act of 1973, as amended (16 U.S.C. 1531 et seq.).

Amy L. Lueders,
Regional Director, Interior Region 6, U.S. Fish and Wildlife Service.

[FR Doc. 2021-23977 Filed 11-2-21; 8:45 am]

BILLING CODE 4333-15-P